NATIONAL SCIENCE FOUNDATION

Advisory Panel for Methods, Cross-Directorate, and Science and Society; Notice of Meeting

In accordance with the Federal Advisory Committee Act (Pub. L. 92-463, as amended), the National Science Foundation (NSF) announces the following meetings of the COV Advisory Panel for Methods, Cross-Directorate, and Science and Society (1760):

Date & Time: March 1-3, 2000; 8:30 a.m.—5:00 p.m.

Place: National Science Foundation, 4201 Wilson Blvd., Rooms 920 and 530, Arlington, VA 22230.

Contact Person: Rachelle Hollander, Program Director for SDEST, National Science Foundation, 4201 Wilson Boulevard, Arlington, VA 22230. Telephone: (703) 306-1743.

Agenda: To review and evaluate SDEST proposals as part of the selection process for awards.

Date/Time: March 1-3, 2000; 8:30 a.m.-5:00 p.m.

Place: National Science Foundation, 4201 Wilson Blvd., Rooms 920 and 530, Arlington, VA 22230.

Contact Person: Dr. Michael M. Sokal, Program Director for Science & Technology Studies, National Science Foundation, 4201 Wilson Boulevard, Arlington, VA 22230. Telephone: (703) 306-1742.

Agenda: To review and evaluate STS as part of the selection process for awards.

Date/Time: March 1-3, 2000.

Place: National Science Foundation, 4201 Wilson Blvd., Rooms 920 and 530, Arlington, VA 22230.

Contact Person: Dr. Cheryl L. Eavey, Program Director for Methods, Measurement & Statistics, National Science Foundation, 4201 Wilson Boulevard, Arlington, VA 22230. Telephone: (703) 306-1729.

Agenda: To review and evaluate MMS proposals as part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c) (4) and (6) of the Government in the Sunshine Act.

Dated: February 10, 2000.
Karen J. York,
Committee Management Officer.

[FR Doc. 00-3537 Filed 2-14-00; 8:45 am]

BILLING CODE 7555-01-M